DEPARTMENT OF THE INTERIOR

Bureau of Land Management

[NV-050-5853-ES; N-80066]

Recreation and Public Purposes (R&PP) Act Classification; Clark County, NV

AGENCY: Bureau of Land Management, Interior.

ACTION: Notice of Realty Action.

SUMMARY: The Bureau of Land Management (BLM) has examined and found suitable for classification for lease or conveyance under the provisions of the Recreation and Public Purposes Act (R&PP), as amended (43 U.S.C. 869 et seq.), approximately 5 acres of public land in Clark County, Nevada. Clark County proposes to use the land for a Clark County Metropolitan Police Department Area Substation and related facilities.

DATES: Interested parties may submit comments regarding the proposed lease/conveyance or classification of the lands until June 22, 2006.

ADDRESSES: Send written comments to the Bureau of Land Management (BLM) Field Manager, Las Vegas Field Office, 4701 N. Torrey Pines Drive, Las Vegas, Nevada, 89130-2301. Detailed information concerning this action is available for review at the BLM office listed above.

FOR FURTHER INFORMATION CONTACT: Marilyn Sowa, Realty Specialist, BLM, Las Vegas Field Office, at (702) 515-5122.

SUPPLEMENTARY INFORMATION: The following described public land has been examined and found suitable for classification for lease or conveyance under the provisions of the Recreation and Public Purposes Act, as amended (43 U.S.C. 869 et seq.) and is hereby classified accordingly:

Mount Diablo Meridian, Nevada

T. 22 S., R. 60 E.,

sec. 15, W½NE¼NE¼NE¼.

The area described contains 5 acres, more or less, in Clark County.

In accordance with the R&PP Act, Clark County has filed an R&PP application to develop the above described land as a Clark County Metropolitan Police Department Area Substation and related facilities. These related facilities include a Substation building facility (offices, kitchen, restrooms, utility/storage rooms, generator pad, and mechanical yard), ancillary equipment, separate paved parking areas for police and citizens, landscaped areas, lighting and utilities, and off-site improvements (boundary streets, utilities, street lighting, and sidewalks). Additional detailed information pertaining to this application, Plan of Development, and site plans is in case-file N-80066, which is located in the BLM Las Vegas Field Office.

Counties are a common applicant under the “public purposes” provision of the R&PP Act. Clark County is a political subdivision of the State of Nevada and is therefore, a qualified applicant under the R&PP Act. The land is not required for any Federal purpose. The lease/conveyance is consistent with the BLM Las Vegas Resource Management Plan, dated October 5, 1998, and would be in the public interest. The lease/patent, when issued, will be subject to the provisions of the R&PP Act and applicable regulations of the Secretary of the Interior, and will contain the following terms, conditions, and reservations to the United States:

1. A right-of-way thereon for ditches or canals constructed by the authority of the United States, Act, of August 30, 1890 (43 U.S.C. 945).

2. All minerals shall be reserved to the United States, together with the right to prospect for, mine and remove such deposits from the same under applicable law and such regulations as the Secretary of the Interior may prescribe. The patent will be subject to:

1. All valid existing rights, and

2. A Right-of-Way N-63015 in favor of Clark County for roads, public utilities, and flood control purposes.

On May 8, 2006, the land described above will be segregated from all other forms of appropriation under the public land laws, including the general mining laws, except for lease/conveyance under the R&PP Act, leasing under the mineral leasing laws and disposals under the mineral material disposal laws. Interested parties may submit comments regarding the proposed lease/conveyance or classification of the lands until June 22, 2006.

Classification Comments: Interested parties may submit comments involving the suitability of the land for a police substation. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for R&PP use. Any adverse comments will be reviewed by the State Director. In the absence of any adverse comments, the classification of the land described in this notice will become effective on July 7, 2006. The lands will not be offered for lease/conveyance until after the classification becomes effective.

Comments, including names and street addresses of respondents will be available for public review at the BLM Las Vegas Field Office during regular business hours Monday through Friday, except holidays. Individual respondents may request confidentiality. If you wish to withhold your name or address from public disclosure under the Freedom of Information Act, you must state this prominently at the beginning of your comments. Such requests will be honored to the extent allowed by law. All submissions from organizations or businesses, and from individuals identifying themselves as representatives of organizations or businesses, will be made available for public inspection in their entirety.

(Authority: 43 CFR part 2741)

Sharon DiPinto,
Assistant Field Manager, Division of Lands, Las Vegas, NV.

[FR Doc. E6-6885 Filed 5-5-06; 8:45 am]

BILLING CODE 4310-HC-P